DEPARTMENT OF COMMERCE

National Oceanic and Atmospheric Administration

RIN 0648-XF962

Pacific Fishery Management Council; Public Meeting (Webinar)

AGENCY: National Marine Fisheries Service (NMFS), National Oceanic and Atmospheric Administration (NOAA), Commerce.

ACTION: Notice of public meeting (webinar).

SUMMARY: The Pacific Fishery Management Council (Pacific Council) is sponsoring a series of four webinars presenting information relevant to the Fishery Ecosystem Plan Initiative on Climate and Communities. The webinars are open to the public.

DATES: Two webinars have been previously scheduled for Thursday, January 25, 2018 and Thursday, February 1, 2018. Two additional webinars are now scheduled; all webinars will begin at 1:30 p.m. on the dates shown below and last for approximately two hours. The third webinar, “Distributional changes of west coast species and impacts of climate change on species and species groups” will be held Thursday, February 22, 2018. The fourth one, “State and federally managed fishery participation under different climate scenarios” will be held Tuesday, February 27, 2018.

ADDRESSES: The meeting will be held via webinar. A public listening station is available at the Pacific Council office (address below). To attend the webinar (1) join the meeting by visiting this link https://www.gotomeeting.com/ (Click “Join a Meeting” in top right corner of page), (2) enter the Webinar ID: 298-193-411, and (3) enter your name and email address (required). After logging in to the webinar, you must use your telephone for the audio portion of the meeting by dialing this TOLL number (1) dial this TOLL number 1-415-655-0052, (2) enter the attendee phone audio access code 564-202-797, and (3) then enter your audio phone pin (shown after joining the webinar). Note: Technical Information and system requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: At its September 2018 meeting, the Pacific Council decided to embark on the Climate and Communities Initiative pursuant to its Fishery Ecosystem Plan. The purpose of this initiative is to help the Pacific Council, its advisory bodies, and the public to better understand the effects of near-term climate shift and long-term climate change on our fish, fisheries, and fishing communities and identify ways in which the Council could incorporate such understanding into its decision-making. As a first step, the Council's Ad Hoc Ecosystem Workgroup is working with scientists at NMFS Northwest and Southwest Fisheries Science Centers to present a series of webinars to educate the Pacific Council, advisory bodies, and the interested public about current research and forecasts related to the effects of climate variability/change on the California Current Ecosystem.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: January 19, 2018.
Jeffrey N. Lonergan,
Acting Deputy Director, Office of Sustainable Fisheries, National Marine Fisheries Service.

[FR Doc. 2018-01289 Filed 1-23-18; 8:45 am]

BILLING CODE 3510-22-P